DEPARTMENT OF ENERGY

Federal Energy Regulatory Commission

[Project No. 2701-061]

Erie Boulevard Hydropower, L.P.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2701-061.

c. Date filed: February 26, 2021.

d. Applicant: Erie Boulevard Hydropower, L.P. (Erie).

e. Name of Project: West Canada Creek Hydroelectric Project (West Canada Creek Project).

f. Location: The existing project is located on West Canada Creek, a tributary of the Mohawk River, in the counties of Oneida and Herkimer, New York. The project does not occupy federal land.

g. Filed Pursuant to: Federal Power Act 16 U.S.C. 791(a)-825(r).

h. Applicant Contact: Steven Murphy, Director, Licensing, Brookfield Renewable, 33 West 1st Street South, Fulton, NY 13069, (315) 598-6130, steven.murphy@brookfieldrenewable.com.

i. FERC Contact: Emily Carter, (202) 502-6512 or Emily.Carter@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-2701-061.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing West Canada Creek Project consists of the following two developments:

The Prospect Development includes: (1) A 176-acre impoundment with a normal surface elevation of 1,161.5 feet; ¹ (2) a dam that consists of a 306-foot-long, 45-foot-high concrete overflow spillway with three 27-foot-wide Tainter gates; (3) a 400-foot-long, 47-foot-high north dike and a 475-foot-long, 47-foot-high south dike; (4) a 4,500-foot-long, 22-foot-high canal extending from the south dike to a concrete intake; (5) a 430-foot-long, 13.5-foot-diameter steel penstock leading from the intake to the 76-foot-long, 62-foot-wide reinforced concrete powerhouse containing a single turbine generator unit with a nameplate capacity of 17.3 megawatts (MW); (6) an approximate 1.2-mile-long bypassed reach between the Prospect dam and the powerhouse; (7) 6.9-kilovolt (kV) generator leads that run from the powerhouse to a substation with a 15-kV breaker, 6.6/46-kV transformer, and a 46-kV switch connecting to the National Grid interconnection point within the substation; and (8) appurtenant facilities.

¹ All elevations refer to the National Geodetic Vertical Datum of 1929.

The Trenton Development includes: (1) A 288-foot-long and 60-foot-high concrete and masonry dam having an overflow section with a crest elevation of 1,017.9 feet, approximately 100 feet long surmounted by 6-foot hinged flashboards and a 10-foot by 15-foot sluice gate; (2) a concrete spillway approximately 160 feet long with a crest elevation of 1,016.2 feet surmounted by a pneumatic flashboard system with a crest elevation of 1,023.9 when fully inflated, discharging into a spillway channel excavated into rock around the east abutment of the dam; (3) a reservoir having a surface area of 9 acres and a gross storage capacity of 264 acre-feet at a normal pool elevation of 1,023.9 feet; (4) six 5-foot-diameter sluice pipes through the dam and two concrete-sealed 5-foot-diameter pipes; (5) a reinforced-concrete intake structure having a lift gate and trashracks along the west bank of the reservoir; (6) a 14-foot-diameter conduit comprising: (a) A 1,275-foot-long concrete-lined tunnel section; (b) a 40-foot-long steel-lined tunnel section; and (c) a 2,075-foot-long steel pipe section; (7) a bifurcation; (8) a steel penstock comprising: (a) A short 12-foot-diameter section connecting to a surge tank and leading to a 125-foot-long, 12-foot-diameter section connecting to a manifold; and (b) three 138-foot-long, 7-foot-diameter sections serving generating Units 5, 6, and 7; (9) a 263-foot-long, 7-foot-diameter steel penstock to Units 1 through 4; (10) Units 1 through 4 in Powerhouse No. 1 retired in-place and Powerhouse No. 2 containing generating Unit 5 (7.4 MW), Unit 6 (7.65 MW), and Unit 7 (7.4 MW)—for a total nameplate rating of 22.45-MW operated at a 255-foot head and a maximum flow of 1,450 cubic feet per second; (11) the 13.2-kV generator leads, the 15-kV switchgear, the 13.2/46-kV transformers, the 46-kV switchgear connecting to the main 46-kV bus, and the associated station services transformer banks and low voltage switchgear; and (12) appurtenant facilities.

The West Canada Creek Project operates off of outflows from the New York Power Authority's Hinckley-Jarvis Hydroelectric Project's (FERC No. 3211) reservoir (Hinckley Reservoir) that discharges into the upper end of the Prospect Development's reservoir.

Erie proposes to continue operating the project in the same manner as the current license and is not proposing to install any new structures as part of the relicensing. The project generated an annual average of 77,161 megawatt-hours between 2011 and 2019.

m. A copy of the application may be viewed on the Commission's website at http://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following schedule. Revisions to the schedule may be made as appropriate.

Milestone | Target date
Filing of comments, recommendations, preliminary terms and conditions, and preliminary fishway prescriptions | March 2022.
Filing of Reply Comments | April 2022.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: January 12, 2022.
Kimberly D. Bose,
Secretary.

[FR Doc. 2022-00922 Filed 1-18-22; 8:45 am]

BILLING CODE 6717-01-P